DEPARTMENT OF TRANSPORTATION

Federal Aviation Administration

Seventy-Fifth Meeting, RTCA Special Committee 159: Global Positioning System (GPS)

AGENCY: Federal Aviation Administration (FAA), DOT.

ACTION: Notice of RTC Special Committee 159 meeting.

SUMMARY: The FAA is issuing this notice to advise the public of a meeting of RTCA Special Committee 159: Global Positioning System (GPS).

DATES: The meeting will be held January 22-25, 2007, from 9 a.m. to 4:30 p.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 159 meeting. The plenary agenda will include:

• January 21:

• Holiday—RTCA Closed.

• January 22:

• All Day, Working Group 2, Wide Area Augmentation System (GPS/WAAS), Colson Board Room.

• Morning (9-12 p.m.), Working Group 2C, GPS Inertial, MacIntosh-NBAA Room & Hilton-ATA Room.

• Afternoon (1 p.m.-4:30 p.m.), Working Group 4, Precision Landing Guidance (GPS/LAAS), MacIntosh-NBAA Room & Hilton-ATA Room.

• January 23:

• All Day, Working Group 2, Wide Area Augmentation System (GPS/WAAS), Colson Board Room.

• All Day, Working Group 4, Precision Landing Guidance (GPS/LAAS), MacIntosh-NBAA Room & Hilton-ATA Room.

• January 24:

• All Day, Working Group 4, Precision Landing Guidance (GPS/LAAS), MacIntosh-NBAA Room & Hilton-ATA Room.

• Morning (9-12 p.m.), Working Group 6, GPS Interference, Colson Board Room.

• Afternoon (1-5 p.m.), Working Group 7, GPS/Antennas, Colson Board.

• January 25

• Open Plenary (Chairman's Introductory Remarks, Approval of Summary of the Seventy-Second Meeting held December 7, 2007, RTCA Paper No. 319-07/SC159-960).

• Review Working Group (WG) Progress and Identify Issues for Resolution.

• GPS/3rd Civil Frequency (WG-1).

• GPS/WAAS (WG-2).

• GPS/GLONASS (WG-2A).

• GPS/Inertial (WG-2C).

• GPS/Precision Landing Guidance and (WG-4).

• GPS/Airport Surface Surveillance (WG-5).

• GPS/Interference (WG-6).

• GPS/Antennas (WG-7).

• GPS/GRAS (WG-8).

• Review of EUROCAE activities.

• Closing Plenary Session (Assignment/Review of Future Work, Other Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on December 14, 2007.
Robert L. Bostiga,
RTCA Advisory Committee (Acting).

[FR Doc. 07-6190 Filed 12-27-07; 8:45 am]

BILLING CODE 4910-13-M